FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012212-001.

Title: NYK/Grimaldi Cooperative Working Agreement.

Parties: Nippon Yusen Kaisha N.Y.K. Line (North America) Inc. and Grimaldi Deep Sea S.p.A.

Filing Party: Wayne R. Rohde, Esq.; Cozen O'Connor; 1627 I Street NW., Suite 1100; Washington, DC 20006-4007.

Synopsis: The amendment changes the name of Industria Armamento Meriodionale S.p.A. to Grimaldi Deep Sea S.p.A.

Agreement No.: 012279-001.

Title: Hyundai Glovis/Grimaldi Space Charter Agreement.

Parties: Hyundai Glovis Co. Ltd. and Grimaldi Deep Sea S.p.A.

Filing Party: Wayne R. Rohde, Esq.; Cozen O'Connor; 1627 I Street NW., Suite 1100; Washington, DC 20006-4007.

Synopsis: The amendment changes the name of party Industria Armamento Meridionale S.p.A. to Grimaldi Deep Sea S.p.A.

Agreement No.: 011574-018.

Title: Pacific Islands Discussion Agreement.

Parties: Hamburg Sudamerikanische Dampfschifffahrts-Gesellschaft KG doing business under its own name and the name Fesco Australia/New Zealand Liner Services (FANZL); Polynesia Line Ltd.; CMA CGM SA; Compagnie Maritime Marfret, SA.

Filing Party: Wayne R. Rohde, Esq.; Cozen O'Connor; 1627 I Street NW., Suite 1100; Washington, DC 20006-4007.

Synopsis: The amendment deletes Hapag-Lloyd as a party to the agreement.

Agreement No.: 012329.

Title: CSCL/HSD Slot Exchange Agreement.

Parties: China Shipping Container Lines Co., Ltd.; China Shipping Container Lines (Hong Kong) Co., Ltd.; Hamburg Sudamerikanische Dampfschifffahrts-Gesellschaft KG.

Filing Party: Brett M. Esber, Esq.; Blank Rome; Watergate 600 New Hampshire Avenue NW; Washington, DC 20037.

Synopsis: The Agreement is a slot exchange agreement in the trade between ports in China (including Hong Kong), Korea, and Malaysia on the one hand, and Panama, Colombia and U.S. East Coast ports on the other hand.

By Order of the Federal Maritime Commission.
Dated: May 1, 2015.
Rachel E. Dickon,
Assistant Secretary.

[FR Doc. 2015-10611 Filed 5-5-15; 8:45 am]

BILLING CODE 6731-AA-P